DEPARTMENT OF TRANSPORTATION

Federal Highway Administration

Environmental Impact Statement: Brazos, Burleson, Grimes, and Robertson Counties, Texas

AGENCY: Federal Highway Administration (FHWA), DOT.

ACTION: Notice of Intent.

SUMMARY: The FHWA is issuing this notice to advise the public that an environmental impact statement will be prepared for a proposed transportation project in Brazos, Burleson, Grimes, and Robertson Counties, Texas.

FOR FURTHER INFORMATION CONTACT: Salvador Deocampo, Acting District Engineer, Federal Highway Administration, 300 E. 8th Street, Room 826, Austin, Texas 78701, Telephone 512-916-5988.

SUPPLEMENTARY INFORMATION: The FHWA, in cooperation with the Federal Railroad Administration (FRA), Texas Department of Transportation (TxDOT), and the Bryan/College Station Metropolitan Organization (B/CSMPO), will prepare an environmental impact statement (EIS) for upgrading the existing railroad corridor or constructing a new corridor for the Union Pacific Railroad (UPRR). The study corridor is approximately 25 miles in length and includes portions of Brazos, Burleson, Grimes and Robertson Counties; the cities of Bryan and College Station; and the Texas A&M University (TAMU) campus. From a regional and local perspective, the UPRR in this area could significantly impact roadway operations, and traffic and pedestrian safety. The population and traffic volumes have grown significantly in the region and the region's population is projected to increase by 50% by the year 2025. Traffic and safety issues are further exacerbated by increasing rail traffic and operations, increasing population, and expansion of activities and facilities in the western half of the TAMU campus.

As directed by TEA-21, the Major Investment Study (MIS) process will be integrated with the EIS. The primary purpose of this study, known as the “Local Rail Economic Feasibility and Location Study” is to perform an alternative corridor analysis to determine the feasibility of upgrading the existing rail corridor or constructing a new corridor which will allow through-freight trains, local motorists, and pedestrians to travel uncongested through all or part of the Bryan/College Station corridor between Hearne and Navasota, Texas. Previous feasibility studies have examined a range of alternatives an alignments.

This study will examine viable alternatives and potential alternatives including the No-Build and vertical realignment and/or horizontal realignment options for the railroad. In addition, the study will evaluate the proposed track improvements required to allow commuter rail operations in conjunction with continuous freight operations. Grade separations of the railroad with Villa Maria Road, George Bush Drive, and FM 2818 are included in the 2000-2025 Metropolitan Transportation Plan (MTP) for the Bryan/College Station region and Transportation Improvement Program (TIP) and will be included in the No-Build Alternative. The study will also include extensive and continuous public involvement to address the long-term mobility need and safety issues of both the region and local community. The study will include the identification of the configuration and operational characteristics of alternatives. It will also include a discussion of the effects on social, economic, and environmental resources, and of other known and reasonably foreseeable agency actions proposed within the study corridor.

Letters describing the proposed action and soliciting comments will be sent to appropriate Federal, State, and local agencies, and to private organizations, citizens, and residents who have previously expressed or are known to have interest in this proposal. Public scoping meetings are planned for:

• September 19, 2000 from 6:30 p.m. to 8:30 p.m. at the Bryan First Church of God Fellowship Hall located at 2002 Highway 21 East, Bryan, Texas 77803;

• September 20, 2000 from 6:30 pm to 8:30 pm at Mary Branch Elementary School Cafeteria located at 2040 West Villa Maria, Bryan, Texas 77801; and

• September 21, 2000 from 11:30 am to 1:30 pm at the College Station Conference Center located at 1300 George Bush Drive, College Station, Texas 77840.

Persons with disabilities planning to attend this meeting who require auxiliary aids or services such as interpreters for the hearing impaired, readers, or Braille, school contact Ms. Sandy Wesch-Schulze at 1-877-394-9321 (toll free number), at least two (2) working days prior to the meeting so that appropriate arrangements can be made. Because the public meeting will be conducted in English, any request for language interpreters or other special communication needs should also be made at least two working days prior to the public meeting. Reasonable accommodations will be made to meet these needs.

These meetings will be to solicit public comments on the proposed action during the National Environmental Policy Act (NEPA) process. In addition, public meetings will be held throughout the process. Public notice will be given of the time and place of the other public meetings and hearing. The Draft EIS will be available for public and agency review and comment before the public hearing.

To ensure that the full range of issues related to this proposed action are addressed and all significant issues identified, comments and suggestions are invited from all interested parties. Comments or questions concerning this proposed action should be directed to the FHWA at the address provided above.

(Catalogue of Federal Domestic Assistance Program Number 20.205, Highway Planning and Construction. The regulations implementing Executive Order 12372 regarding intergovernmental consultation on Federal programs and activities apply to this program)

Issued on: August 15, 2000.
Brett Jackson,
Urban Program Engineer.

[FR Doc. 00-21214 Filed 8-18-00; 8:45 am]

BILLING CODE 4910-22-M